FEDERAL EMERGENCY MANAGEMENT AGENCY

44 CFR Part 65

[Docket No. FEMA-D-7501]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, Chief, Hazards Study Branch, Mitigation Directorate, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program.

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of section 2(b)(2) of Executive Order 12778.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Alabama:
Colbert | City of Tuscumbia | February 11, 2000, February 18, 2000, Colbert County Reporter | The Honorable Jean McCormack, Mayor of the City of Tuscumbia, P.O. Box 29, Tuscumbia, Alabama 35674 | May 18, 2000 | 010049 D
Elmore | Unincorporated Areas | May 17, 2000, May 24, 2000, Montgomery Advertiser | Mr. Wayne Teal, Chairman of the Elmore County Commission, 100 Commerce Street, Room 207, Wetumpka, Alabama 36092 | Aug. 22, 2000 | 010406 B
Elmore | City of Wetumpka | May 17, 2000, May 24, 2000, Montgomery Advertiser | The Honorable Jo Glenn, Mayor of the City of Wetumpka, P.O. Box 1180, Wetumpka, Alabama 36092 | Aug. 22, 2000 | 010070 B
Florida:
Charlotte | Unincorporated Areas | May 15, 2000, May 22, 2000, Sun Herald | Mr. Jan Winters, Charlotte County Administrator, 18500 Murdock Circle, Room 536, Port Charlotte, Florida 33948-1094 | May 8, 2000 | 120061 E
Orange | Unincorporated Areas | May 17, 2000, May 24, 2000, The Orlando Sentinel | Dr. M. Krishnamurthy, P.E., Orange County Stormwater, Management Department, 4200 South John Young Parkway, Orlando, Florida 32839-9205 | May 10, 2000 | 120179 D
Sarasota | Unincorporated Areas | April 28, 2000, May 5, 2000, Sarasota Herald-Tribune | Mr. Jim Ley, Sarasota County Administrator, 1660 Ringling Boulevard, 2nd Floor, Sarasota, Florida 34236 | Apr. 21, 2000 | 125144 D
Georgia:
Cherokee | Unincorporated Areas | May 17, 2000, May 24, 2000, Cherokee Tribune | Ms. Emily Lemcke, Chairwoman of the Cherokee County Board of Commissioners, 90 North Street, Suite 310, Canton, Georgia 30114 | Aug. 22, 2000 | 130424 C
Cherokee | City of Woodstock | May 17, 2000, May 24, 2000, Cherokee Tribune | The Honorable W. David Rogers, Mayor of the City of Woodstock, 103 Arnold Mill Road, Woodstock, Georgia 30188 | Aug. 22, 2000 | 130264 B
Maryland:
Harford | Unincorporated Areas | May 12, 2000, May 19, 2000, The Aegis | Mr. James M. Harkins, Harford County Executive, 220 South Main Street, Bel Air, Maryland 21014 | May 3, 2000 | 240040 D
North Carolina:
Currituck | Unincorporated Areas | June 30, 2000, July 7, 2000, The Daily Advance | Mr. William S. Richardson, Currituck County Manager, P.O. Box 39, Currituck, North Carolina 27929-0070 | Oct. 5, 2000 | 370078 C
Orange | Town of Chapel Hill | April 28, 2000, May 5, 2000, Chapel Hill News | The Honorable Rosemary Waldorf, Mayor of the Town of Chapel Hill, 306 North Columbia Street, Chapel Hill, North Carolina 27516 | Apr. 19, 2000 | 370180 E
Pennsylvania:
Berks | Township of Lower Heidelberg | April 24, 2000, May 1, 2000, Reading Eagle/Reading Times | Mr. Russell Swinehart, Chairman of the Lower Heidelberg, Board of Supervisors, 24 Lisa Road, Sinking Spring, Pennsylvania 19608 | Apr. 4, 2000 | 421077 E
Bucks | Township of Middletown | April 26, 2000, May 3, 2000, News-Herald | Mr. John J. Burke, Middletown Township Manager, 2140 Trenton Road, Levittown, Pennsylvania 19056 | Mar. 8, 2000 | 420193
Butler | Borough of Harmony | June 8, 2000, June 15, 2000, Butler Eagle | Mr. Jeffrey Smith, President, Borough of Harmony Council, P.O. Box 945, Harmony, Pennsylvania 16037 | Sept. 13, 2000 | 420217
Butler | Township of Jackson | June 8, 2000, June 15, 2000, Butler Eagle | Mr. James A. MacDonald, Chairman, Township of Jackson, Board of Supervisors, 140 Magill Road, Zelieople, Pennsylvania 16063 | Sept. 13, 2000 | 421420
Huntingdon | Borough of Mount Union | April 21, 2000, April 28, 2000, The Daily News | The Honorable Michael C. Goodman, Mayor of the Borough of Mount Union, P.O. Box 90, Mount Union, Pennsylvania 17066 | Mar. 22, 2000 | 420489 B
Lebanon | Township of South Lebanon | October 8, 1999, October 15, 1999, The Daily News | Mr. Curtis Kulp, Township of South Lebanon Manager, 1800 South Fifth Avenue, Lebanon, Pennsylvania 17042 | Jan. 13, 2000 | 420581
Mifflin | Township of Wayne | April 21, 2000, April 28, 2000, The Daily News | Mr. Theodore M. Reed, Chairman of the Wayne Township Board of Supervisors, 3055 Ferguson Valley, McVeytown, Pennsylvania 17051 | Mar. 22, 2000 | 421240 A
Tennessee:
Shelby | Unincorporated Areas | March 23, 2000, March 30, 2000, The Collierville Herald | The Honorable Jim Rout, Mayor of Shelby County, 160 North Main Street, Suite 850, Memphis, Tennessee 38103 | June 28, 2000 | 470214
Virginia:
Prince William | Unincorporated Areas | April 7, 2000, April 14, 2000, Potomac News | Mr. H.B. Ewert, Prince William County Executive, 1 County Complex Court, Prince William, Virginia 22192 | July 13, 2000 | 510119 D

(Catalog of Federal Domestic Assistance No. 83.100, “Flood Insurance.”)
Dated: August 25, 2000.
Michael J. Armstrong,
Associate Director for Mitigation.

[FR Doc. 00-22804 Filed 9-5-00; 8:45 am]

BILLING CODE 6718-04-P